DEPARTMENT OF ENERGY

Federal Energy Regulatory Commission

[Docket Nos. ER01-1315-002, et al.]

AES Ironwood, LLC, et al.; Electric Rate and Corporate Filings

September 7, 2004.

The following filings have been made with the Commission. The filings are listed in ascending order within each docket classification.

1. AES Ironwood, LLC

[Docket Nos. ER01-1315-002 and ER04-1010-001]

Take notice that on August 31, 2004, AES Ironwood, LLC (Ironwood) submitted for filing its revised triennial market power update in compliance with Docket No. ER01-1315-000, Letter Order (issued June 5, 2001), AEP Power Marketing, Inc., et al., 107 FERC ¶ 61,018, on reh'g, 108 FERC ¶ 61,026 (2004), and Acadia Power Partners, LLC, et al., 107 FERC ¶ 61,168 (2004). Ironwood also submitted for filing amendments to its market-based rate tariff implementing six (6) new market behavior rules adopted by the Commission in Investigation of Terms and Conditions of Public Utility Market-Based Rate Authorization, 105 FERC ¶ 61,218 (2003). In addition, Ironwood also submitted its revision to FERC Electric Tariff, Original Volume No. 1, and its first revision to its Statement of Policy and Code of Conduct.

Comment Date: 5 p.m. eastern time on September 21, 2004.

2. Southern California Edison Company

[Docket No. ER04-922-001]

Take notice that, on August 31, 2004, Southern California Edison (SCE) submitted a compliance filing pursuant to the Commission's letter order issued August 6, 2004, in Docket No. ER04-922-000.

SCE states that copies of the filing were served on parties on the official service list in the above-captioned proceeding.

Comment Date: 5 p.m. eastern time on September 21, 2004.

3. NewCorp Resources Electric Cooperative, Inc.

[Docket No. ER04-1149-001]

Take notice that on August 31, 2004, NewCorp Resources Electric Cooperative, Inc. (NewCorp) tendered for filing an amendment to its Network Integration Transmission Service Agreement with Cap Rock Energy Corporation filed on August 25, 2004, in Docket No. ER04-1149-000.

Comment Date: 5 p.m. eastern time on September 21, 2004.

4. New England Power Pool

[Docket No. ER04-1162-000]

Take notice that on August 31, 2004, the New England Power Pool (NEPOOL) Participants Committee filed for acceptance materials to permit NEPOOL to expand its membership to include Barclays Bank PLC and to terminate the memberships of Aleph One, Inc. and Energy Atlantic, LLC. The Participants Committee requests an effective date of August 1, 2004, for the termination of Aleph One, Inc. and Energy Atlantic, LLC and an effective date of November 1, 2004, for the commencement of participation in NEPOOL by Barclays.

The Participants Committee states that copies of these materials were sent to the New England State governors and regulatory commissions and the Participants in NEPOOL.

Comment Date: 5 p.m. eastern time on September 21, 2004.

5. San Diego Gas & Electric Company

[Docket No. ER04-1163-000]

Take notice that on August 31, 2004, San Diego Gas & Electric Company (SDG&E) tendered for filing revisions to its Transmission Owner Tariff, FERC Electric Tariff, Original Volume No. 11, to reflect proposed revisions to SDG&E's Transmission Formula Rate. SDG&E requests an effective date of September 1, 2004, for the proposed revisions.

SDG&E states that copies of the filing have been served on the California Public Utilities Commission and the CAISO.

Comment Date: 5 p.m. eastern time on September 21, 2004.

6. Reliant Energy Seward, LLC

[Docket No. ER04-1164-000]

Take notice that on August 31, 2004, Reliant Energy Seward LLC (Seward LLC) submitted its rate schedule and supporting cost data for a proposed Reactive Support and Voltage Control from Generation Sources Service for its 521 MW (net summer rating) waste coal generating facility located in East Wheatfield Township, Pennsylvania.

Comment Date: 5 p.m. eastern time on September 21, 2004.

7. Midwest Independent Transmission System Operator, Inc.

[Docket Nos. ER04-1165-000]

Take notice that on August 31, 2004, the Midwest Independent Transmission System Operator, Inc. (Midwest ISO) submitted for filing, pursuant to section 205 of the Federal Power Act, 16 U.S.C. 824d, revisions to section 2.2 and Attachment J of the Midwest ISO's Open Access Transmission Tariff (the Midwest ISO OATT) to establish a methodology to govern exercise of reservation priority rights by certain existing firm service customers. The Midwest ISO states that this filing responds to the Commission's recent invitation to the Midwest ISO to provide for such a methodology in its tariff on a prospective basis.

The Midwest ISO states it has served copies to all its members, member representatives of Transmission Owners and Non-Transmission Owners, the Midwest ISO Advisory Committee participants, as well as all state commissions in the region and in addition, the filing has been posted electronically on the Midwest ISO's Web sites at http://www.midwestiso.org under the heading “Filings to FERC” for other interested parties in this matter.

Comment Date: 5 p.m. eastern time on September 21, 2004.

8. Twelvepole Creek, LLC

[Docket No. ER04-1166-000]

Take notice that on August 31, 2004, Twelvepole Creek, LLC (Twelvepole Creek) submitted its rate schedule and supporting cost data for a proposed Reactive Support and Voltage Control from Generation Sources Service for its Ceredo generation facility located in Wayne County, West Virginia.

Comment Date: 5 p.m. eastern time on September 21, 2004.

9. Wisconsin River Power Company

[Docket No. ER04-1167-000]

Take notice that on August 31, 2004, Wisconsin River Power Company (WRPCo) tendered for filing Third Revised Rate Schedule FERC No. 2 (Third Revised Rate Schedule) by and among WRPCo, Consolidated Water Power Company (CWPCo), Wisconsin Public Service Corporation (WPS) and Wisconsin Power and Light Company (WP&L). WRPCo states that the Third Revised Rate Schedule modifies the power sale and purchase obligations of WRPCo, CWPCo and WPS.

WRPCo respectively requests that the Commission allow the Third Revised Rate Schedule to become effective as of September 1, 2004, the day after filing.

WRPCo states that copies of the filing were served upon CWPCo, WPS, WP&L, the Public Service Commission of Wisconsin and the Michigan Public Service Commission.

Comment Date: 5 p.m. eastern time on September 21, 2004.

10. California Independent System Operator Corporation

[Docket No. ER04-1168-000]

Take notice that, on August 31, 2004, the California Independent System Operator Corporation (ISO) submitted an informational filing as to the ISO's updated transmission Access Charge rates effective as of September 1, 2004.

The ISO states that this filing has been served upon the Public Utilities Commission of the State of California, the California Energy Commission, the California Electricity Oversight Board, the Participating Transmission Owners, and upon all parties with effective Scheduling Coordinator Service Agreements under the ISO Tariff. The ISO states that it is posting the filing on the ISO Home Page.

Comment Date: 5 p.m. eastern time on September 21, 2004.

11. Midwest Independent Transmission System Operator, Inc.

[Docket No. ER04-1169-000]

Take notice that on August 31, 2004, the Midwest Independent Transmission System Operator, Inc. (Midwest ISO) and the Midwest ISO Transmission Owners submitted for filing proposed revisions to the Midwest ISO Open Access Transmission Tariff to accommodate the City of Columbia, Missouri, a new transmission owner member of the Midwest ISO.

The Midwest ISO and the Midwest ISO Transmission Owners requested an effective date of August 1, 2004.

The Midwest ISO and the Midwest ISO Transmission Owners have also requested waiver of the service requirements set forth in 18 CFR 385.2010. The Midwest ISO states it has electronically served a copy of this filing, with attachments, upon all Midwest ISO Members, Member representatives of Transmission Owners and Non-Transmission Owners, as well as all State commissions within the region. In addition, the filing has been electronically posted on the Midwest ISO's Web site at http://www.midwestiso.org under the heading “Filings to FERC” for other interested parties in this matter. The Midwest ISO further states that it will provide hard copies to any interested parties upon request.

Comment Date: 5 p.m. eastern time on September 21, 2004.

12. Wisconsin Electric Power Company

[Docket No. ER04-1170-000]

Take notice that on August 31, 2004, Wisconsin Electric Power Company (Wisconsin Electric) tendered for filing an Invoice Netting Agreement between Wisconsin Electric and Manitoba Hydro (the Agreement). Wisconsin Electric states that the Agreement permits the netting of payments owed under separate agreements for the sale of energy and capacity entered into by Wisconsin Electric and Manitoba Hydro. Wisconsin Electric requests an effective date of August 10, 2004, to permit the netting of invoices for July service which will be due during the month of August.

Comment Date: 5 p.m. eastern time on September 21, 2004.

13. PJM Interconnection, L.L.C.

[Docket No. ER04-1171-000]

Take notice that on August 31, 2004, PJM Interconnection, L.L.C. (PJM) submitted for filing revisions to the PJM Open Access Transmission Tariff and the Amended and Restated Operating Agreement of PJM Interconnection, L.L.C., to incorporate language accepted by the Commission in prior versions of these documents, but not previously integrated into the current effective tariff sheets, and to correct minor typographical and formatting errors.

PJM requests waiver of the Commission's notice regulations to permit each of the revised tariff sheets to become effective as of the current effective date of the sheet that is being revised, as indicated in the filing.

PJM states that copies of this filing have been served on all PJM members, and on each state electric utility regulatory commission in the PJM region.

Comment Date: 5 p.m. eastern time on September 21, 2004.

14. NorthWestern Corporation

[Docket No. ES04-47-000]

Take notice that on September 2, 2004, NorthWestern Corporation (NorthWestern) submitted an application pursuant to section 204 of the Federal Power Act seeking authorization to issue warrants for up to 5.305 million shares of and up to an additional 7.571 million shares of common stock.

NorthWestern also requests a waiver from the Commission's competitive bidding and negotiated placement requirements at 18 CFR 34.2.

Comment Date: 5 p.m. eastern time on September 28, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and any parties to the proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2176 Filed 9-13-04; 8:45 am]

BILLING CODE 6717-01-P